DEPARTMENT OF DEFENSE

Office of the Secretary

Notice of Federal Advisory Committee Meeting—Defense Policy Board

AGENCY: Department of Defense (DoD).

ACTION: Notice of Federal advisory committee meeting.

SUMMARY: The DoD is publishing this notice to announce the following Federal advisory committee meeting of the Defense Policy Board (DPB) will take place.

DATES: Closed to the public; Tuesday, January 7, 2025, from 10:45 a.m. to 5:00 p.m.

ADDRESSES: The closed meeting will be held in the Rodman Conference Room, 3D852, at The Pentagon, 2000 Defense Pentagon, Washington, DC 20301-2000.

FOR FURTHER INFORMATION CONTACT: James E. Benkowski, DPB Designated Federal Officer (DFO), 703-697-4758 (Voice), james.e.benkowski2.civ@mail.mil (Email). Mailing address is 2000 Defense Pentagon, Attn: 5E420, Washington, DC 20301-2000.

SUPPLEMENTARY INFORMATION: This meeting is being held under the provisions of chapter 10 of title 5, United States Code (U.S.C.) (commonly known as the “Federal Advisory Committee Act” or “FACA”); 5 U.S.C. 552b (commonly known as the “Government in the Sunshine Act”); and sections 102-3.140 and 102-3.150 of title 41 Code of Federal Regulations (CFR). Due to circumstances beyond the control of the DFO and the DoD, the DPB was unable to provide public notification required by 41 CFR 102-3.150(a) concerning its January 7, 2025 meeting. Accordingly, the Advisory Committee Management Officer for the DoD, pursuant to 41 CFR 102-3.150(b), waives the 15-calendar day notification requirement.

Purpose of the Meeting: To obtain, review, and evaluate classified information related to the DPB's mission to advise on: (a) issues central to strategic DoD planning; (b) policy implications of U.S. force structure and modernization on DoD's ability to execute U.S. defense strategy; (c) U.S. regional defense policies; and (d) other defense policy topics of special interest to the DoD, as determined by the Secretary of Defense, the Deputy Secretary of Defense, or the Under Secretary of Defense for Policy.

Agenda: On January 7, 2025 the DPB will receive classified briefings to evaluate key trends, assumptions, and uncertainties associated with the future security environment.

• James Benkowski, DPB DFO, will provide opening remarks; Ms. Amanda Dory, Acting Under Secretary of Defense for Policy, Ms. Madeline Mortelmans, Performing the Duties of Assistant Secretary of Defense for Strategy, Plans, and Capabilities, and Dr. Janine Davidson, DPB Chair, will welcome the DPB and provide an overview of the meeting's purpose and its key objectives focused on a high-level evaluation of key trends, assumptions, and uncertainties associated with the future security environment;

• Representatives from the Strategic Futures Group of the National Intelligence Council will discuss major structural trends and sources of uncertainty in the international system, their potential impacts on the future security environment, and help identify plausible alternative future scenarios against which DoD should plan;

• DPB will discuss key medium-to-long term risks and opportunities facing the DoD, including the most significant trends that are guiding DoD planning;

• Representatives from the Defense Intelligence Agency will discuss major trends in the Indo-Pacific, Europe, and the Middle East, including the interaction of geopolitical dynamics, transboundary challenges, and technological change;

• Dr. Janine Davidson will lead the DPB in drawing on its own expertise and experience to discuss key trends, challenges, and opportunities in the future security environment and to develop recommendations to out brief the Secretary of Defense.

• The DPB will then provide advice and recommendations to Hon. Lloyd Austin, Secretary of Defense.

Meeting Accessibility: In accordance with 5 U.S.C. 1009(d) and 41 CFR 102-3.155 the DoD has determined that this meeting shall be closed to the public. The Acting Under Secretary of Defense (Policy), in consultation with the DoD FACA Attorney, has determined in writing that this meeting is closed to the public because the discussions fall under the purview of 5 U.S.C. 552b(c)(1) and are so inextricably intertwined with unclassified material that they cannot reasonably be segregated into separate discussions without disclosing classified material.

Written Statements: In accordance with 5 U.S.C. 1009(a)(3) and 41 CFR 102-3.140(c) and 102-3.150(6) the public or interested organizations may submit written statements to the membership of the DPB at any time regarding its mission or in response to the stated agenda of a planned meeting. Written statements should be submitted to the DPB's DFO, who's information is listed above in this notice in the FOR FURTHER INFORMATION CONTACT section or can be obtained from the GSA's FACA Database— http://www.facadatabase.gov/. Written statements that do not pertain to a scheduled meeting of the DPB may be submitted at any time. However, if individual comments pertain to a specific topic being discussed at a planned meeting, then these statements must be submitted no later than one business day prior to the meeting in question. The DFO will review all submitted written statements and provide copies to all members.

Dated: December 20, 2024.
Stephanie J. Bost,
Alternate OSD Federal Register Liaison Officer, Department of Defense.

[FR Doc. 2024-30975 Filed 12-27-24; 8:45 am]

BILLING CODE 6001-FR-P